DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. The Bureau of Labor Statistics (BLS) is soliciting comments concerning the proposed new collection of the “Survey of Workplace Violence Prevention.” A copy of the proposed information collection request (ICR) can be obtained by contacting the individual listed below in the Addresses section of this notice.

DATES: Written comments must be submitted to the office listed in the ADDRESSES section of this notice on or before January 31, 2005.

ADDRESSES: Send comments to Amy A. Hobby, BLS Clearance Officer, Division of Management Systems, Bureau of Labor Statistics, Room 4080, 2 Massachusetts Avenue, NE., Washington, DC 20212, telephone number 202-691-7628 (this is not a toll free number).

FOR FURTHER INFORMATION CONTACT: Amy A. Hobby, BLS Clearance Officer, telephone number 202-691-7628. (See ADDRESSES section).

SUPPLEMENTARY INFORMATION:

I. Background

The National Institute for Occupational Safety and Health (NIOSH) and the Bureau of Labor Statistics (BLS), U.S. Department of Labor (DOL), have agreed to conduct a survey to evaluate the employer's perspective regarding policies, training, and other related issues on workplace violence prevention, including risk factors associated with workplace violence and prevention strategies, in workplaces within the United States.

As an integral part of a broad-based initiative to reduce the incidence of occupational violence in the United States, NIOSH conducts, funds, and publishes research on risk factors and prevention strategies related to workplace violence. In 2002, Congress appropriated two million dollars to NIOSH and directed them “ * * * to develop an intramural and extramural prevention research program that will target all aspects of workplace violence and to coordinate its efforts with the Departments of Justice and Labor.” A portion of the intramural funding has been allocated to conduct the Survey of Workplace Violence Prevention.

The findings of the survey will allow characterization of how the issue of workplace violence is being addressed in workplaces and may be useful to identify where educational interventions and prevention strategies are needed.

I.Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

Office of Management and Budget clearance is being sought for the Survey of Workplace Violence Prevention.

The NIOSH has been conducting research on workplace violence risk factors and prevention strategies for a number of years using data from NIOSH sources, the BLS, the Bureau of Justice Statistics, the National Electronic Injury Surveillance System, and others. The vast majority of the knowledge regarding workplace violence is based on information about workers who have been victims of violent incidents, both fatal and nonfatal. Very little information exists regarding policies, training, and other related issues from an employer's perspective.

To gather this information, NIOSH has elected to enter into an Interagency Agreement (IA) with the BLS. NIOSH recognizes that the BLS is an unbiased, reliable, and objective source of information and has established contacts and infrastructure to conduct such a survey.

The data collected from the Survey of Workplace Violence Prevention will be used by NIOSH to identify by industry sector (the North American Industry Classification System/NAICS) and establishment size: (1) Workplace violence prevention polices and programs, (2) training regarding workplace violence prevention, (3) risk factors associated with workplace violence, and (4) workplace violence prevention strategies.

Type of Review: New collection.

Agency: Bureau of Labor Statistics.

Title: Survey of Workplace Violence Prevention.

OMB Number: 1220-NEW.

Affected Public: Business or other for-profit; not-for-profit institutions; farms; and State, local or tribal government.

Total Respondents: 40,000.

Frequency: Nonrecurring.

Total Responses: 40,000.

Average Time Per Response: 20 minutes.

Estimated Total Burden Hours: 13,334 hours.

Total Burden Cost (Capital/Startup): $0.

Total Burden Cost (Operating/Maintenance): $0.

Comments submitted in response to this notice will be summarized and/or included in the request for Office of Management and Budget approval of the information collection request; they also will become a matter of public record.

Signed in Washington, DC, this 22nd day of November, 2004.
Cathy Kazanowski,
Chief, Division of Management Systems, Bureau of Labor Statistics.

[FR Doc. 04-26375 Filed 11-29-04; 8:45 am]

BILLING CODE 4510-24-P